GENERAL SERVICES ADMINISTRATION

Office of Communications

Standard and Optional Forms Management Office Cancellation of an Optional Form

AGENCY: General Services Administration.

ACTION: Notice.

SUMMARY: Because of no usage the following Optional Form is cancelled: OF 101, Summary worksheet for Estimating Report Costs.

DATES: Effective upon publication in the Federal Register.

FOR FURTHER INFORMATION CONTACT: Ms. Barbara Williams, (202) 501-0581.

Dated: March 17, 2000.
Barbara M. Williams,
Deputy Standard and Optional Forms Management Officer.

[FR Doc. 00-8226 Filed 4-3-00; 8:45 am]

BILLING CODE 6820-34-M